DEPARTMENT OF HEALTH AND HUMAN SERVICES

[Document Identifier OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project

Multisite Evaluation of the In Community Spirit Program—Prevention of HIV/AIDS for Native/American Indian and Alaska Native Women Living in Rural and Frontier Indian Country—OMB No. 0990-New—Office on Women's Health (OWH)

Abstract: The Office on Women's Health (OWH), within the Office of the Assistant Secretary for Health, will conduct the Multisite Evaluation of the In Community Spirit Program—Prevention of HIV/AIDS for Native/American Indian and Alaska Native (AI/AN) Women Living in Rural and Frontier Indian Country (In Community Spirit Program). The In Community Spirit Program is an initiative comprising three types of program components being implemented with women in AI/AN communities for HIV prevention: (1) Community awareness, (2) capacity building, and (3) prevention education. The multisite evaluation will provide data on the content and context of programs and the outcomes of program activities on participant knowledge and behavior related to sexual health.

The multisite evaluation is comprised of two main activities across three program components: (1) Surveys and (2) key informant interviews. There are two versions of key informant interviews: Baseline and follow-up. There are also two versions of the survey: (1) Community Awareness Version for administration with women targeted through the community awareness activities and (2) Prevention Education Version to be administered to women who receive prevention education through the program.

The average annual respondent burden is estimated below. The estimate reflects the average annual number of respondents, the average annual number of responses, the time it will take for each response, and the average annual burden across 3 years of OMB clearance, which includes 2 years of data collection.

Estimated Annualized Burden Table
Form | Type of respondent | Number of respondents | Number of responses per respondent per year | Average burden per response (hrs) | Total burden hours **
Key Informant Interviews BL and Follow-up | Agency Provider (Administrator) | 6 | 1 | 45/60 | 5
Key Informant Interviews BL and Follow-up | Agency Staff (Health Educators and Support Workers) | 24 | 1 | 45/60 | 18
HEAL Survey—Community Awareness | Community Member | 900 | 0.5 | 15/60 | 113
HEAL Survey—Prevention Education | Community Member | 1200 | 1.5 | 15/60 | 450
Total |  | 2130 |  |  | 586

Mary Forbes,
Paperwork Reduction Act Clearance Officer, Office of the Secretary.

[FR Doc. 2011-15079 Filed 6-16-11; 8:45 am]

BILLING CODE 4150-33-P